DEPARTMENT OF AGRICULTURE

National Agricultural Statistics Service

Notice of Intent To Request Revision and Extension of a Currently Approved Information Collection

AGENCY: National Agricultural Statistics Service, USDA.

ACTION: Notice and request for comments.

SUMMARY: In accordance with the Paperwork Reduction Act of 1995, this notice announces the intention of the National Agricultural Statistics Service (NASS) to request revision and extension of a currently approved information collection, the Annual Organic Survey. USDA's Risk Management Agency (RMA) typically funds an organic production and practices survey in years where the Census of Agriculture Special Study for Organics is not conducted. The next Special Study is planned for 2025 (enumerated in early 2026). With the completion of the 2022 Census of Agriculture, NASS will conduct the Special Study again, return it to its' original scope of questions and the mandatory reporting requirement. This request will also include the 2026 and 2027 voluntary surveys that are funded by USDA-RMA. A minor revision to burden hours will be needed to account for the anticipated data collection plan for the upcoming surveys along with adding some cognitive interviews to test requested changes to the annual surveys.

DATES: Comments on this notice must be received by March 31, 2025 to be assured of consideration.

ADDRESSES: You may submit comments, identified by docket number 0535-0249, Organic Survey, by any of the following methods:

• Email: ombofficer@nass.usda.gov. Include docket number above in the subject line of the message.

• E-fax: (855) 838-6382.

• Mail: Mail any paper, disk, or CD-ROM submissions to: Richard Hopper, NASS Clearance Officer, U.S. Department of Agriculture, Room 5336, South Building, 1400 Independence Avenue SW, Washington, DC 20250-2024.

• Hand Delivery/Courier: Hand deliver to: Richard Hopper, NASS Clearance Officer, U.S. Department of Agriculture, Room 5336, South Building, 1400 Independence Avenue SW, Washington, DC 20250-2024.

FOR FURTHER INFORMATION CONTACT: Joseph J Prusacki, Associate Administrator, National Agricultural Statistics Service, U.S. Department of Agriculture, (202) 720-2707. Copies of this information collection and related instructions can be obtained without charge from Richard Hopper, NASS—OMB Clearance Officer, at (202) 720-2206 or at ombofficer@nass.usda.gov.

SUPPLEMENTARY INFORMATION:

Title: Organic Survey.

OMB Control Number: 0535-0249.

Type of Request: Intent to Seek Renewal of an Information Collection.

Abstract: The primary objective of the National Agricultural Statistics Service (NASS) is to prepare and issue State and national estimates of crop and livestock production, prices, and disposition as well as economic statistics, farm numbers, land values, on-farm pesticide usage, pest crop management practices, as well as the Census of Agriculture.

Originally, the Organic Survey was designed to be conducted once every five years as a mandatory, follow-on-survey to the 2007 Census of Agriculture and then every five years after that. In 2011, the Information Collection Request was renewed to include that the survey was changed to accommodate a cooperative agreement between NASS and the USDA Risk Management Agency (RMA). Specifically, the survey was changed to a voluntary survey that was to be conducted annually if funding permitted, and it would allow for a rotation of target crops each year. With the completion of the 2012 Census of Agriculture, NASS renewed the Organic Survey again and returned it to its original scope of questions and the mandatory reporting requirement. After the completion of the 2014 Organic Survey, NASS renewed its cooperative agreement with RMA to conduct the shorter questionnaire on an annual basis.

The sample will consist of all certified organic operations, operations exempt from organic certification (value of sales <$5,000), and operations with acres transitioning into organic certification from the most recent published Census of Agriculture as well as organic operations currently on the NASS list frame. The survey will be conducted in all States. Some operation level data will be collected to use in classifying each operation for summary purposes. The majority of the questions will involve production data (acres planted, acres harvested, quantity harvested, quantity sold, livestock produced and sold, value of sale, etc.), and marketing and production practices.

Depending on annual funding, approximately 27,000 operations will be contacted by mail in late November or early December, with a second mailing later in the month to non-respondents. Respondents will be able to complete the questionnaire by use of the internet, if they so choose. Telephone and personal enumeration will be used for remaining non-response follow-up. If the survey is funded, the National Agricultural Statistics Service will publish summaries in December at both the State level and for each major organic commodity when possible. Due to confidentiality rules, some State level data may be combined and published at the regional or national level to prevent disclosure of individual operation's data.

This collection of data will support requirements within the Agricultural Act of 2014. Under section 11023 some of the duties of the Federal Crop Insurance Corporation (FCIC) are defined as “(i) IN GENERAL—As soon as possible, but not later than the 2015 reinsurance year, the Corporation shall offer producers of organic crops price elections for all organic crops produced in compliance with standards issued by the Department of Agriculture under the national organic program established under the Organic Foods Production Act of 1990 (7 U.S.C. 6501 et seq.) that reflect the actual retail or wholesale prices, as appropriate, received by producers for organic crops, as determined by the Secretary using all relevant sources of information. “(ii) ANNUAL REPORT.—The Corporation shall submit to the Committee on Agriculture of the House of Representatives and the Committee on Agriculture, Nutrition, and Forestry of the Senate an annual report on progress made in developing and improving Federal crop insurance for organic crops, including—“(I) the numbers and varieties of organic crops insured; “(II) the progress of implementing the price elections required under this subparagraph, including the rate at which additional price elections are adopted for organic crops; “(III) the development of new insurance approaches relevant to organic producers; and “(IV) any recommendations the Corporation considers appropriate to improve Federal crop insurance coverage for organic crops”.

Authority: These data will be collected under the authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995, Pub. L. 104-13 (44 U.S.C. 3501, et seq.) and Office of Management and Budget regulations at 5 CFR part 1320.

All NASS employees and NASS contractors must also fully comply with all provisions of the Confidential Information Protection and Statistical Efficiency Act (CIPSEA) of 2018, Title III of Public Law 115-435, codified in 44 U.S.C. ch. 35. CIPSEA supports NASS's pledge of confidentiality to all respondents and facilitates the agency's efforts to reduce burden by supporting statistical activities of collaborative agencies through designation of NASS agents, subject to the limitations and penalties described in CIPSEA.

Estimate of Burden: Public reporting burden for this collection of information is estimated to average 43 minutes per response.

Respondents: Farmers and Ranchers.

Estimated Number of Respondents: 27,000.

Estimated Total Annual Burden on Respondents: 9,500 hours (based on an estimated 80% response rate, using two questionnaire mail attempts, two pressure sealers/postcard mailings, and an Email blast, followed by phone and personal enumeration for non-respondents).

Comments: Comments are invited on: (a) whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, technological, or other forms of information technology collection methods.

All responses to this notice will become a matter of public record and be summarized in the request for OMB approval.

Signed at Washington, DC, January 21, 2025.
Joseph J. Prusacki,
Associate Administrator.

[FR Doc. 2025-01963 Filed 1-29-25; 8:45 am]

BILLING CODE 3410-20-P